DEPARTMENT OF THE INTERIOR

Fish and Wildlife Service

[FWS-R2-ES-2015-N037; FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before April 22, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6920.

SUPPLEMENTARY INFORMATION: The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-830213

Applicant: EcoPlan Associates, Inc., Mesa, Arizona.

Applicant requests a renewal to a current permit for research and recovery purposes to conduct presence/absence surveys of the following species within Arizona:

• Black-footed ferret (Mustela nigripes)

• Colorado pikeminnow (Ptychocheilus lucius)

• Gila topminnow (Poeciliopsis occidentalis)

• Hualapai Mexican vole (Microtus mexicanus hualpaiensis)

• Jaguar (Panthera onca)

• Lesser long-nosed bat (Leptonycteris yerbabuenae)

• Mount Graham red squirrel (Tamiasciurus hudsonicus grahamensis)

• Razorback sucker (Xyrauchen texanus)

• Sonoran pronghorn (Antilocapra americana sonoriensis)

• Sonoran tiger salamander (Ambystoma tigrinum stebbinsi)

• Southwestern willow flycatcher (Empidonax traillii extimus)

• Virgin River chub (Gila seminuda)

• Woundfin (Plagopterus argentissimus)

• Yuma clapper rail (Rallus longirostris yumanensis)

Permit TE-829761

Applicant: U.S. Bureau of Land Management—Phoenix District Office, Phoenix, Arizona.

Applicant requests a renewal to a current permit for research and recovery purposes to conduct presence/absence surveys of the following species within Arizona:

• Desert pupfish (Cyprinodon macularius)

• Gila chub (Gila intermedia)

• Gila topminnow (Poeciliopsis occidentalis)

• Lesser long-nosed bat (Leptonycteris yerbabuenae)

• Sonoran pronghorn (Antilocapra americana sonoriensis)

• Southwestern willow flycatcher (Empidonax traillii extimus)

Permit TE-797127

Applicant: U.S. Army Corps of Engineers, Albuquerque, New Mexico.

Applicant requests a renewal to a current permit for research and recovery purposes to conduct presence/absence surveys for the following species in New Mexico:

• Interior least tern (Sterna antillarum)

• Jemez Mountain salamander (Plethedon neomexicanus)

• Northern aplomado falcon (Falco femoralis)

• Piping plover (Charadrius melodus)

• Rio Grande silvery minnow (Hybognathus amarus)

• Whooping crane (Grus americana)

• Holy Ghost ipomopsis (Ipomopsis sancti-spiritus)

• Knowlton cactus (Pediocactus knowltonii)

• Kuenzler's hedgehog cactus (Echinocereus fendleri var. kuenzleri)

• Mancos milk-vetch (Astragalus humillimus)

• Sacramento prickly poppy (Argemone pleiacantha spp. pinnatisecta)

• Sneed pincushion cactus (Coryphantha sneedii var. sneedii)

• Todsen's pennyroyal (Hedeoma todsenii)

• Gypsum wild-buckwheat (Eriogonum gypsophilum)

• Lee pincushion cactus (Coryphantha sneedii var. leei)

• Mesa Verde cactus (Sclerocactus mesae-verdae)

• Pecos sunflower (Helianthus paradoxus)

• Sacramento Mountains thistle (Cirsium vinaceum)

• Zuni fleabane (Erigeron rhizomatus)

Permit TE-42739A

Applicant: Sea Life Arizona, Tempe, Arizona.

Applicant requests a renewal to a current permit for research and recovery purposes to conduct husbandry and holding of the following species at the facility in Arizona:

• Green sea turtle (Chelonia mydas)

• Bonytail chub (Gila elegans)

• Humpback chub (Gila cypha)

• Razorback sucker (Xyrauchen texanus)

• Gila topminnow (Poeciliopsis occidentalis)

• Gila trout (Oncorhynchus gilae gilae)

• Colorado pikeminnow (Ptychocheilus lucius)

• Apache trout (Oncorhynchus apache)

• Desert pupfish (Cyprinodon macularius)

• Loach minnow (Tiaroga cobitis)

• Spikedace (Meda fulgida)

• Woundfin (Plagopterus argentissimus)

• Yaqui beautiful shiner (Cyprinella formosa)

• Yaqui chub (Gila purpurea)

• Yaqui tominnow (Poeciliopsis occidentalis sonoriensis)

Permit TE-064085

Applicant: Iris Rodden, Tucson, Arizona.

Applicant requests a renewal to a current permit for research and recovery purposes to conduct presence/absence surveys for the following species in Arizona:

• Interior least tern (Sterna antillarum)

• Lesser long-nosed bat (Leptonycteris yerbabuenae)

• Northern aplomado falcon (Falco femoralis)

• Southwestern willow flycatcher (Empidonax traillii extimus)

Permit TE-053104

Applicant: ACI Group Consulting, Austin, Texas.

Applicant requests a renewal to a current permit for research and recovery purposes to conduct presence/absence surveys of the following species in Texas:

• Austin blind salamander (Eurycea waterlooensis)

• Barton Springs salamander (Eurycea sosorum)

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Houston toad (Bufo houstonensis)

• Kretschmarr Cave mold beetle (Texamaurops reddelli)

• Madla Cave meshweaver (Cicurina madla)

• Robber Baron Cave meshweaver (Cicurina baronia)

• Southwestern willow flycatcher (Empidonax traillii extimus)

• Texas blind salamander (Eurycea rathbuni)

• Tooth Cave ground beetle (Rhadine persephone)

• Tooth Cave pseudoscorpion (Tartarocreagris texana)

• Tooth Cave spider (Neoleptoneta (=Leptoneta) myopica)

Permit TE-48847A

Applicant: Texas A&M University Sea Life Center, Galveston, Texas.

Applicant requests a renewal to a current permit for research and recovery purposes to conduct presence/absence surveys, stranding activities, holding, and rehabilitation for Kemp's ridley (Lepidochelys kempii) and hawksbill (Eretmochelys imbricata) sea turtles within Texas.

Permit TE-043399

Applicant: Eagle Environmental Consulting, Inc., Vinita, Oklahoma.

Applicant requests a renewal to a current permit for research and recovery purposes to conduct presence/absence surveys for interior least tern (Sterna antillarum) within Oklahoma and American burying beetle (Nicrophorus americanus) within Arkansas, Kansas, Louisiana, Oklahoma, and Texas.

Permit TE-829995

Applicant: Dallas Zoo and Aquarium, Dallas, Texas.

Applicant requests a renewal to a current permit for research and recovery purposes to conduct husbandry and holding for the following species at the zoo in Texas:

• Austin blind salamander (Eurycea waterlooensis)

• Barton Springs salamander (Eurycea sosorum)

• Hawksbill sea turtle (Eretmochelys imbricata)

• Houston toad (Bufo houstonensis)

Permit TE-051819

Applicant: Fort Worth Zoo, Fort Worth, Texas.

Applicant requests an amendment to a current permit for research and recovery purposes to conduct husbandry and holding of Austin blind salamanders (Eurycea waterlooensis) at the zoo in Texas.

Permit TE-066229

Applicant: Whitenton Group, San Marcos, Texas.

Applicant requests a renewal to a current permit for research and recovery purposes to conduct presence/absence surveys of the following species in Texas:

• Austin blind salamander (Eurycea waterlooensis)

• Barton Springs salamander (Eurycea sosorum)

• Black-capped vireo (Vireo atricapilla)

• Fountain darter (Etheostoma fonticola)

• Golden-cheeked warbler (Dendroica chrysoparia)

• Houston toad (Bufo houstonensis)

• Northern aplomado falcon (Falco femoralis)

• Ocelot (Leopardus pardalis)

• Piping plover (Charadrius melodus)

• Red-cockaded woodpecker (Picoides borealis)

• San Marcos gambusia (Gambusia georgei)

Permit TE-58226B

Applicant: James Hall, Austin, Texas.

Applicant requests a new permit for research and recovery purposes to conduct presence/absence surveys for golden-cheeked warbler (Dendroica chrysoparia) within Texas.

Permit TE-58243B

Applicant: Austin Hill, Richardson, Texas.

Applicant requests a new permit for research and recovery purposes to conduct presence/absence surveys for American burying beetle (Nicrophorus americanus) within Texas, Oklahoma, Kansas, and Arkansas.

Permit TE-195191

Applicant: Baer Engineering and Environmental Consulting, Austin, Texas.

Applicant requests a new permit for research and recovery purposes to conduct presence/absence surveys for black-capped vireo (Vireo atricapilla) and golden-cheeked warbler (Dendroica chrysoparia) within Texas.

Permit TE-676811

Applicant: U.S. Fish and Wildlife Service—Region 2, Albuquerque, New Mexico.

Applicant requests an amendment to a current permit for research and recovery purposes to conduct presence/absence surveys of and regular management duties associated with the following species within the southwest region:

• Black-footed ferret (Mustela nigripes)

• Canada lynx (Lynx canadensis)

• Gray bat (Myotis grisescens)

• Gray wolf (Canis lupus)

• Hualapai Mexican vole (Microtus mexicanus hualapaiensis)

• Indiana bat (Myotis sodalis)

• Jaguar (Panthera onca)

• Jaguarundi (Herpailurus (=Felis) yagouaroundi)

• Lesser long-nosed bat (Leptonycteris curasoae yerbabuenae)

• Louisiana black bear (Ursus americanus luteolus)

• Mexican gray wolf (Canis lupus baileyi)

• Mexican long-nosed bat (Leptonycteris nivalis)

• Mount Graham red squirrel (Tamiasciurus hudsonicus grahamensis)

• New Mexico meadow jumping mouse (Zapus husonius lutueus)

• Ocelot (Leopardus (=Felis) pardalis)

• Ozark big-eared bat (Plecotus townsendii ingens)

• Red wolf (Canis rufus)

• Sonoran pronghorn (Antilocapra americana sonoriensis)

• Attwater's greater prairie-chicken (Tympanuchus cupido attwateri)

• Black-capped vireo (Vireo atricapillus)

• California condor (Gymnogyps californianus)

• Eskimo curlew (Numenius borealis)

• Golden-cheeked warbler (Dendroica chrysoparia)

• Interior least tern (Sterna antillarum)

• Ivory-billed woodpecker (Campephilus principalis)

• Lesser prairie-chicken (Tympanuchus pallidicinctus)

• Masked bobwhite quail (Colinus virginianus ridgwayi)

• Mexican spotted owl (Strix occidentalis lucida)

• Northern aplomado falcon (Falco femoralis septentrionalis)

• Piping plover (Charadrius melodus)

• Red-cockaded woodpecker (Picoides borealis)

• Southwestern willow flycatcher (Expidonax traillii extimus)

• Western yellow-billed cuckoo (Coccyzus americanus)

• Whooping crane (Grus americana)

• Yuma clapper rail (Rallus longirostris yumanensis)

• Desert tortoise (Gopherus (=Xerobates, =Scaptochelys) agassizii)

• Narrowheaded gartersnake (Thamnophis rufipunctatus)

• New Mexican ridge-nosed rattlesnake (Crotalus willardi obscurus)

• Northern Mexico gartersnake (Thamnophis eques megalops)

• Kemp's ridley sea turtle (Lepidochelys kempii)

• Green sea turtle (Chelonia mydas)

• Loggerhead sea turtle (Caretta caretta)

• Hawksbill sea turtle (Eretmochelys imbricata)

• Leatherback sea turtle (Dermochelys coriacea)

• Austin blind salamander (Eurycea waterlooensis)

• Barton Springs salamander (Eurycea sosorum)

• Chiricahua leopard frog (Rana chiricahuensis)

• Georgetown salamander (Eurycea naufragia)

• Houston toad (Bufo houstonensis)

• Jemez Mountains salamander (Plethodon neomexicanus)

• Jollyville Plateau salamander (Eurycea tonkawae)

• Salado salamander (Eurycea chisholmensis)

• San Marcos salamander (Eurycea nana)

• Sonora tiger salamander (Ambystoma tigrinum stebbinsi)

• Texas blind salamander (Typhlomolge rathbuni)

• Apache (=Arizona) trout (Oncorhynchus (=Salmo) apache)

• Arkansas River shiner (Notropis girardi)

• Beautiful shiner (Cyprinella (=Notropis) formosa)

• Big Bend gambusia (Gambusia gaigei)

• Bonytail chub (Gila elegans)

• Chihuahua chub (Gila nigrescens)

• Clear Creek gambusia (Gambusia heterochir)

• Colorado pikeminnow (Ptychocheilus lucius)

• Comanche Springs pupfish (Cyprinodon elegans)

• Desert pupfish (Cyprinodon macularius)

• Devil's Hole pupfish (Cyprinodon diabolis)

• Devil's River minnow (Dionda diaboli)

• Fountain darter (Etheostoma fonticola)

• Gila chub (Gila intermedia)

• Gila topminnow (Poeciliopsis occidentalis)

• Gila trout (Oncorhynchus (=Salmo) gilae)

• Humpback chub (Gila cypha)

• Leon Springs pupfish (Cyprinodon bovinus)

• Leopard darter (Percina pantherina)

• Little Colorado spinedace (Lepidomeda vittata)

• Loach minnow (Rhinichthys (=Tiaroga) cobitis)

• Neosho madtom (Noturus placidus)

• Ozark cavefish (Amblyopsis rosae)

• Pecos bluntnose shiner (Notropis simus pecosensis)

• Pecos gambusia (Gambusia nobilis)

• Razorback sucker (Xyrauchen texanus)

• Rio Grande silvery minnow (Hybognathus amarus)

• San Marcos gambusia (Gambusia georgei)

• Sharpnose shiner (Notropis oxyrhynchus)

• Smalleye shiner (Notropic buccula)

• Sonora chub (Gila ditaenia)

• Spikedace (Meda fulgida)

• Virgin River chub (Gila robusta semidnuda)

• Woundfin (Plagopterus argentissimus)

• Yaqui catfish (lctalurus pricei)

• Yaqui chub (Gila purpurea)

• Yaqui topminnow (Poeciliopsis occidentalis sonoriensis)

• Zuni bluehead sucker (Catostomus discobolus yarrowi)

• Neosho mucket (Lampsilis rafinesqueana)

• Ouachita rock-pocketbook (Arkansia wheeleri)

• Rabbitsfoot (Quadrula cylindrica cylindrica)

• Scaleshell (mussel) (Leptodea leptodon)

• Winged mapleleaf (mussel) (Quadrula fragosa)

• Alamosa springsnail (Tryonia alamosae)

• Chupadera springsnail (Pyrgulopsis chupaderae)

• Diamond tryonia (Pseudotryonia adamantine)

• Gonzales tryonia (Tryonia circumstriata)

• Kanab ambersnail (Oxyloma haydeni kanabensis)

• Koster's springsnail (Juturnia kosteri)

• Pecos assiminea (Assiminea pecos)

• Phantom springsnail (Pyrgulopsis texana)

• Phantom tryonia (Tryonia cheatumi)

• Roswell springsnail (Pyrgulopsis roswellensis)

• San Bernadino springsnail (Pyrgulopsis bernardina)

• Socorro springsnail (Pyrgulopsis neomexicana)

• Three Forks springsnail (Pyrgulopsis trivialis)

• American burying beetle (Nicrophorus americanus)

• Coffin Cave mold beetle (Batrisodes texanus)

• Comal Springs dryopid beetle (Stygoparnus comalensis)

• Comal Springs riffle beetle (Heterelmis comalensis)

• Kretschmarr Cave mold beetle (Texamaurops reddelli)

• Tooth Cave ground beetle (Rhadine persephone)

• Bee Creek Cave harvestman (Texella reddelli)

• Bone Cave harvestman (Texella reyesi)

• Tooth Cave pseudoscorpion (Tartarocreagris texana)

• Tooth Cave spider (Neoleptoneta myopica)

• ground beetle, no common name (Rhadine exilis)

• ground beetle, no common name (Rhadine infernalis)

• Helotes mold beetle (Batrisodes venyivi)

• Cokendolpher cave harvestman (Texella cokendolpheri)

• Robber Baron cave meshweaver (Cicurina baronia)

• Madla's cave meshweaver (Cicurina madla)

• Bracken Bat Cave meshweaver (Cicurina venii)

• Government Canyon Bat Cave meshweaver (Cicurina vespera)

• Government Canyon Bat Cave spider (Neoleptoneta microps)

• Diminutive amphipod (Gammarus hyalleloides)

• Peck's Cave amphipod (Stygobromus (=Stygonectes) pecki)

• Pecos amphipod (Gammarus pecos)

• Socorro isopod (Thermosphaeroma thermophilus)

• Noel's amphipod (Gammarus desperatus)

• Acuña cactus (Echinomastus erectocentrus var. acunensis)

• Arizona hedgehog cactus (Echinocereus triglochidiatus var. arizonicus (=E. arizonicus))

• Arizona cliffrose (Purshia (=Cowania) subintegra)

• Ashy dogwood (Thymophyla (=Dyssodia) tephroleuca)

• Black lace cactus (Echinocereus reichenbachii var. albertii (=E. melanocentrus))

• Brady pincushion cactus (Pediocactus (=Toumeya) bradyi)

• Bunched cory cactus (Coryphantha ramillosa)

• Canelo Hills ladies'-tresses (Spiranthes delitescens)

• Chisos Mountain hedgehog cactus (Echinocereus chisosensis var. chisosensis)

• Cochise pincushion cactus (Coryphantha (=Cochiseia, Escobaria) robbinsorum)

• Davis' green pitaya (Echinocereus viridiflorus var. Davisii (=E. Davisii))

• Eastern prairie fringed orchid (Platanthera leucophaea)

• Fickeisen plains cactus (Pediocactus peeblesianus var. fickeiseniae)

• Gierisch mallow (Sphaeralcea gierischii)

• Gypsum wild-buckwheat (Eriogonum gypsophilum)

• Hinckley's oak (Quercus hinckleyi)

• Holmgren milk-vetch (Astragalus holmgreniorum)

• Holy Ghost ipomopsis (Ipomopsis sancti-spiritus)

• Huachuca water umbel (Lilaeopsis schaffneriana var. recurva)

• Johnston's frankenia (Frankenia johnstonii)

• Jones cycadenia (Cycadenia humilis var. jonesii)

• Kearney's blue-star (Amsonia kearneyana)

• Knowlton cactus (Pediocactus (=Toumeya) knowltonii) (=P. Bradyi var. k.)

• Kuenzler hedgehog cactus (Echinocereus fendleri var. kuenzleri)

• Large-fruited sand verbena (Abronia macrocarpa)

• Lee pincushion cactus (Coryphantha (=Escobaria, =Mammillaria) sneedii var. leei)

• Little Aguja pondweed (Potamogeton clystocarpus)

• Lloyd's mariposa cactus (Echinomastus (=Echinocactus, =Sclerocactus, =Neolloydia mariposensis))

• Mancos milk-vetch (Astragalus humillimus)

• Mesa Verde cactus (Sclerocactus (=Coloradoa, =Echinocactus, =Pediocactus) mesae- verdae)

• Navajo sedge (Carex specuicola)

• Navasota ladies'-tresses (Spiranthes parksii)

• Neches River rose-mallow (Hibiscus dasycalyx)

• Nellie cory cactus (Coryphantha (=Escobaria, =Mammillaria) minima (=nellieae))

• Nichol's Turk's head cactus (Echinocactus horizonthalonius var. nicholii)

• Pecos (=puzzle) sunflower (Helianthus paradoxus)

• Peebles Navajo cactus (Pediocactus (=Echinocactus, =Navajoa, =Toumeya, =Utahia) peeblesianus var. peeblesianus)

• Pima pineapple cactus (Coryphantha scheeri var. robustispina)

• Sacramento prickly-poppy (Argemone pleiacantha ssp. pinnatisecta)

• Sacramento Mountains thistle (Cirsium vinaceum)

• San Francisco Peaks groundsel (Senecio franciscanus)

• Sentry milk-vetch (Astragalus cremnophylax var. cremnophylax)

• Siler pincushion cactus (Pediocactus (=Echinocactus, =Utahia) sileri)

• Slender rush-pea (Hoffmannseggia tenella)

• Sneed pincushion cactus (Coryphantha (=Escobaria, =Mammillaria) sneedii var. sneedii)

• South Texas ambrosia (Ambrosia cheiranthifolia)

• Star cactus (Astrophytum asterias)

• Terlingua Creek cat's eye (Cryptantha crassipes)

• Texas ayenia (Ayenia limitaris)

• Texas golden gladecress (Leavenworthia texana)

• Texas prairie dawn (=Texas bitterweed) (Hymenoxys texana)

• Texas poppy-mallow (Callirhoe scabriuscula)

• Texas trailling phlox (Phlox nivalis ssp. texensis)

• Texas wild-rice (Zizania texana)

• Texas snowbells (Styrax texana)

• Tobusch fishhook cactus (Ancistrocactus (=Echinocactus, =Mammillaria) tobuschii)

• Todsen's pennyroyal (Hedeoma todsenii)

• Walker's manioc (Manihot walkerae)

• Welsh's milkweed (Asclepias welshii)

• Western prairie fringed orchid (Platanthera praeclara)

• White bladderpod (Lesquerella pallida)

• Zapata bladderpod (Lesquerella thanmnophila)

• Zuni (=Rhizome) fleabane (Erigeron rhizomatus)

Permit TE-5878A

Applicant: University of Arizona, Tucson, Arizona.

Applicant requests a renewal to a current permit for research and recovery purposes to conduct presence/absence surveys and research activities for ocelot (Leopardus pardalis) and jaguar (Panthera onca) within Arizona.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: March 11, 2015.
Stephen Robertson,
Acting Regional Director, Southwest Region, U.S. Fish and Wildlife Service.

[FR Doc. 2015-06573 Filed 3-20-15; 8:45 am]

BILLING CODE 4310-55-P